DEPARTMENT OF THE INTERIOR

Bureau of Land Management

[CA-310-1820-AE]

Notice of Resource Advisory Council Meeting

AGENCY: Bureau of Land Management, Interior.

ACTION: Notice of meeting.

SUMMARY: Pursuant to the authorities in the Federal Advisory Committees Act (Pub. L. 92-463) and the Federal Land Policy and Management Act (Pub. L. 94-579), the U. S. Bureau of Land Management's Northwest California Resource Advisory Council will meet Wednesday and Thursday, April 24 and 25, 2002, in Arcata, CA, for a field tour and business meeting. The tour and meeting are open to the public, but anyone participating in the tour must provide their own transportation and lunch.

SUPPLEMENTARY INFORMATION: The meeting begins at 10 a.m. Wednesday, April 24, at the BLM Arcata Field Office, 1695 Heindon Rd., Arcata. Members will convene, then depart immediately for field tour of sites managed by the Arcata Field Office. On Thursday, April 25, the council will convene a business meeting at 8 a.m. in the Conference Room of the BLM Arcata Field Office. Agenda topics will include discussion of a community forest proposal in Trinity County, a status report on planning for the Headwaters Forest Reserve, and a status report on a proposed amendment to the BLM Redding Field Office Resource Management Plan. Council members will also hear status reports from the managers of the BLM's Arcata, Redding and Ukiah field offices.

Time will be set aside for public comments. Depending on the number of persons wishing to speak, a time limit may be established.

FOR ADDITIONAL INFORMATION: Contact Lynda J. Roush, BLM Arcata Field Manager, at (707) 825-2300; or Public Affairs Officer Joseph J. Fontana at (530) 257-5381.

Joseph J. Fontana,
Public Affairs Officer.

[FR Doc. 02-6781 Filed 3-20-02; 8:45 am]

BILLING CODE 4310-40-P